DEPARTMENT OF THE INTERIOR

National Park Service

[NPS-WASO-CONC-22082; PPWOBSADC0, PPMVSCS1Y.Y00000]

Notice of Extension of Concession Contracts

AGENCY: National Park Service, Interior.

ACTION: Public notice.

SUMMARY: The National Park Service hereby gives public notice that it proposes to extend the expiring concession contracts listed below for the period specified, or until the effective date of a new contract, whichever occurs sooner.

DATES: Effective January 1, 2017.

FOR FURTHER INFORMATION CONTACT: Brian Borda, Program Chief, Commercial Services Program, National Park Service, 1201 Eye Street NW., 11th Floor, Washington, DC 20005, Telephone: 202-513-7156.

SUPPLEMENTARY INFORMATION: All of the listed concession authorizations will expire by their terms on or before December 31, 2016. The National Park Service has determined the proposed extensions are necessary to avoid interruption of visitor services and has taken all reasonable and appropriate steps to consider alternatives to avoid such interruption. The publication of this notice merely reflects the intent of the National Park Service and does not bind the National Park Service to extend any of the contracts listed below.

The information in the first table shows concession contracts intended to be extended until December 31, 2017, or until the effective date of a new concession contract, whichever occurs first. The information in the second table shows concession contracts intended to be extended until December 31, 2018, or until the effective date of a new concession contract, whichever occurs first. Under the provisions of current concession contracts, the National Park Service authorizes extension of visitor services for the contracts below under the terms and conditions of the current contract (as amended if applicable). The extension of operations does not affect any rights with respect to selection for award of a new concession contract.

Table 1—Concession Contracts Extended Until December 31, 2017 or Until the Effective Date of a New Contract
Park unit | CONCID | Concessioner
Aniakchak NM | ANIA903-05 | Joe Klutsch.
Aniakchak NM | ANIA904-05 | Jay M. King.
Aniakchak NM | ANIA906-05 | Cinder River Lodge Alaska, LLC.
Apostle Islands NL | APIS001-06 | Apostle Island Cruises, Inc.
Bandelier NM | BAND001-06 | Pajarito Plateau Trading Co. LLC.
Bryce Canyon NP | BRCA002-07 | Bryce-Zion Trail Rides, Inc.
Buffalo NR | BUFF001-06 | Buffalo Point Concession.
Buck Island Reef NM | BUIS006-06 | Teroro II, Inc.
Buck Island Reef NM | BUIS008-06 | Llewellyn's Charters, Inc.
Buck Island Reef NM | BUIS014-06 | Michael Klein.
Buck Island Reef NM | BUIS019-06 | Dragon Fly.
Cabrillo NM | CABR001-06 | Cabrillo National Monument Foundation.
Canyonlands NP | CANY001-05 | Adventure Bound, Inc.
Canyonlands NP | CANY002-05 | Sheri Griffith Holding, LLC.
Canyonlands NP | CANY003-05 | NavTec Expeditions, Inc.
Canyonlands NP | CANY004-05 | Outward Bound Wilderness.
Canyonlands NP | CANY005-05 | Colorado River and Trail Expeditions, Inc.
Canyonlands NP | CANY006-05 | O.A.R.S. Canyonlands, Inc.
Canyonlands NP | CANY007-05 | Holiday River Expeditions, Inc.
Canyonlands NP | CANY009-05 | Moki Mac River Expeditions, Inc.
Canyonlands NP | CANY010-05 | O.A.R.S. Canyonlands, Inc.
Canyonlands NP | CANY011-05 | Western River Expeditions, Inc.
Canyonlands NP | CANY012-05 | Niskanen & Jones, Inc.
Canyonlands NP | CANY014-05 | Niskanen & Jones, Inc.
Canyonlands NP | CANY015-05 | ARAMARK Sports and Entertainment, LLC.
Canyonlands NP | CANY019-05 | Niskanen & Jones, Inc.
Canyonlands NP | CANY020-05 | Raft Moab, Inc.
Canyonlands NP | CANY031-07 | Holiday River Expeditions, Inc.
Canyonlands NP | CANY032-07 | Escape Adventures, Inc.
Canyonlands NP | CANY033-07 | Mike & Maggie Adventures, LLC.
Canyonlands NP | CANY034-07 | Rim Tours, Inc.
Canyonlands NP | CANY035-07 | Western Spirit Cycling, Inc.
Channel Islands NP | CHIS002-06 | Channel Islands Aviation.
Colonial NHP | COLO007-05 | The Association for the Preservation of Virginia Antiquities.
Craters of the Moon NM&P | CRMO001-06 | Craters of the Moon Natural History Ass'n.
Denali NP&P | DENA013-07 | Denali Nat'l Park Wilderness Centers LTD.
Denali NP&P | DENA015-07 | Doyon, Limited.
Denali NP&P | DENA016-07 | Alaskan Park Properties, INC.
Denali NP&P | DENA018-05 | Jon M. Nierenberg.
Denali NP&P | DENA024-07 | Sheldon Air Service LLC.
Denali NP&P | DENA025-07 | Rust's Air Service, Inc.
Denali NP&P | DENA028-07 | Fly Denali, Inc.
Denali NP&P | DENA029-07 | Talkeetna Air Taxi, INC.
Death Valley NP | DEVA004-06 | Death Valley Natural History Association.
Eisenhower NHS | EISE001-05 | Gettysburg Tours, Inc.
Fire Island NS | FIIIS007-05 | Fire Island Concessions, LLC.
Fort Sumter NM | FOSU001-07 | Fort Sumter Tours, Inc.
Gates of the Arctic NP&P | GAAR001-05 | Richard A. Guthrie.
Glacier Bay NP&P | GLBA008-05 | Alaska Discovery, Inc.
Glacier Bay NP&P | GLBA011-05 | Chilkat Guides, Ltd. (new owners 2014).
Glacier Bay NP&P | GLBA012-05 | Colorado River & Trail Expeditions, Inc.
Glacier Bay NP&P | GLBA013-05 | James Henry River Journeys.
Glacier Bay NP&P | GLBA014-05 | Mountain Travel.
Glacier Bay NP&P | GLBA017-05 | Wilderness River Outfitters.
Glacier Bay NP&P | GLBA020-05 | Vernon W. Schumacher & Jill Schumacher.
Glacier Bay NP&P | GLBA029-05 | Janice Lowenstein.
Glacier Bay NP&P | GLBA033-05 | Alsek River Lodge.
Glacier Bay NP&P | GLBA901-05 | Alsek River Guide Service, Inc.
Glacier Bay NP&P | GLBA902-05 | Alsek River Guide Service, Inc.
Great Smoky Mountain NP | GRSM006-07 | Smoky Mountain Stables, Inc.
Golden Gate NRA | GOGA007-06 | Golden Gate National Parks Conservancy.
Hawai'i Volcanoes NP | HAVO002-06 | Hawai'i Pacific Parks Association, Ltd.
Jefferson NEM | JEFF002-07 | Jefferson National Parks Association.
Joshua Tree NP | JOTR001-06 | Joshua Tree National Park Association.
Lava Beds NM | LABE001-06 | Lava Beds Natural History Association.
Northeast Reg. Office | NERO001-05 | Eastern National Parks Association.
Oregon Caves NM&P | ORCA002-06 | Oregon Caves Natural History Association.
Ozark NSR | OZAR010-05 | The Landing and Rosecliff Lodge.
Ozark NSR | OZAR013-05 | Yellow Paddle Adventures, LLC.
Ozark NSR | OZAR014-05 | C&R Boating Company, Inc.
Ozark NSR | OZAR020-05 | Darrel Blackwell.
Ozark NSR | OZAR023-05 | The Landing and Rosecliff Lodge.
Ozark NSR | OZAR024-05 | Tom and Della Bedell.
Ozark NSR | OZAR025-05 | The Landing and Rosecliff Lodge.
Ozark NSR | OZAR028-05 | Jack and Lois Peters.
Ozark NSR | OZAR036-05 | George Eugene and Eleanor Maggard.
Ozark NSR | OZAR049-05 | The Landing and Rosecliff Lodge.
Ozark NSR | OZAR050-05 | John Kladiva.
Point Reyes NS | PORE004-06 | Point Reyes National Seashore Association.
Pacific West Reg. Office | PWRO001-06 | Western National Parks Association.
Rocky Mountain NP | ROMO001-07 | Xanterra Parks & Resorts, Inc.
Sagamore Hill NHS | SAHI001-05 | The Theodore Roosevelt Association.
World War II Valor in the Pacific NM | USAR002-06 | Arizona Memorial Museum Association.
Virgin Islands NP | VIIS008-05 | CBI Acquisitions, LLC.

Table 2—Concession Contracts Extended Until December 31, 2018 or Until the Effective Date of a New Contract
Park unit | CONCID | Concessioner
Glacier Bay NP&P | GLBA009-07 | Alaska Discovery, Inc.
Glacier Bay NP&P | GLBA015-06 | Paul Johnson.
Glacier Bay NP&P | GLBA018-06 | Alaska Glacier Guides, Inc.
Glacier Bay NP&P | GLBA019-06 | Anchor Excursions Inc.
Glacier Bay NP&P | GLBA021-07 | Glacier Bay Sea Kayaks, Inc.
Glacier Bay NP&P | GLBA022-06 | Craig S. Loomis.
Glacier Bay NP&P | GLBA023-06 | Alaskan Sailing Expeditions, LLC.
Glacier Bay NP&P | GLBA024-06 | Jimmie L. Rosenbrunch.
Glacier Bay NP&P | GLBA025-06 | James S. Kearns.
Glacier Bay NP&P | GLBA026-06 | Denny Paul Corbin.
Glacier Bay NP&P | GLBA027-06 | InnerSea Discoveries, LLC.
Glacier Bay NP&P | GLBA028-06 | Francis and Linda Kadrlik.
Glacier Bay NP&P | GLBA030-06 | Ronn Patterson.
Glacier Bay NP&P | GLBA031-06 | Geoff Wilson and Debbie Kay Bennett.
Glacier Bay NP&P | GLBA032-06 | Sea Wolf Adventures, Inc.
Glacier Bay NP&P | GLBA034-06 | InnerSea Discoveries, LLC.
Glacier Bay NP&P | GLBA048-07 | Alaska Mountain Guides & Climbing School, Inc.
Noatak NP | NOAT901-06 | Philip E. Driver.
Noatak NP | NOAT904-06 | James P. Jacobson.
Noatak NP | NOAT906-06 | Edmund Mont Mahoney.
Wrangell-St Elias NP&P | WRST001-07 | Ultima Thule Outfitters, Inc.
Wrangell-St Elias NP&P | WRST002-07 | Johnny W. McMahan.
Wrangell-St Elias NP&P | WRST003-07 | Wendell Kirk Ellis.
Wrangell-St Elias NP&P | WRST004-07 | W. Cole Ellis.
Wrangell-St Elias NP&P | WRST005-07 | Majestic Mountain Outfitters, Inc.
Wrangell-St Elias NP&P | WRST006-07 | Rough & Ready Guide Service, INC.
Wrangell-St Elias NP&P | WRST007-07 | Kichatna Guide Service.
Wrangell-St Elias NP&P | WRST009-07 | W. Cole Ellis.
Wrangell-St Elias NP&P | WRST010-07 | Majestic Mountain Outfitters, Inc.
Wrangell-St Elias NP&P | WRST012-07 | Urban E. Rahoi.
Wrangell-St Elias NP&P | WRST013-07 | Thomas Vaden.
Wrangell-St Elias NP&P | WRST014-07 | Ultima Thule Outfitters, Inc.
Wrangell-St Elias NP&P | WRST015-07 | Ultima Thule Outfitters, Inc.
Wrangell-St Elias NP&P | WRST016-07 | Wrangell Outfitters, Inc.
Wrangell-St Elias NP&P | WRST017-07 | Chuck McMahan.

Dated: October 17, 2016.
Lena McDowall,
Chief Financial Officer.

[FR Doc. 2016-27723 Filed 11-17-16; 8:45 am]

BILLING CODE 4312-52-P